INTERNATIONAL TRADE COMMISSION

[Investigation No. 332-549]

Rice: Global Competitiveness of the U.S. Industry

AGENCY: United States International Trade Commission.

ACTION: Institution of investigation and scheduling of hearing.

SUMMARY: Following receipt on May 15, 2014, of a request from the Committee on Ways and Means (Committee) of the House of Representatives under section 332(g) of the Tariff Act of 1930 (19 U.S.C. 1332(g)), the U.S. International Trade Commission (Commission) instituted investigation No. 332-549, Rice: Global Competitiveness of the U.S. Industry.

DATES:

August 26, 2014: Deadline for filing requests to appear at the public hearing.

September 2, 2014: Deadline for filing prehearing briefs and statements.

September 10, 2014: Public hearing.

September 17, 2014: Deadline for filing posthearing briefs and statements.

December 9, 2014: Deadline for filing all other written submissions.

April 14, 2015: Transmittal of Commission report to the Committee.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Project leader John Giamalva (202-205-3329 or john.giamalva@usitc.gov) or deputy project leader Marin Weaver (202-205-3461 or marin.weaver@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested by the Committee, the Commission will conduct an investigation and prepare a report on the factors affecting the global competitiveness of the U.S. rice industry. As requested and to the extent that information is publicly available, the report will include the following:

1. An overview of the rice industry in the United States and other major global producing and exporting countries (such as China, India, Indonesia, Thailand, Vietnam, Uruguay, and Brazil), including production of rice, processing volumes, processing capacity, carry-over inventory, and consumption;

2. Information on recent trade trends and developments in the global market for rice, including U.S. and major foreign supplier imports and exports;

3. A comparison of the competitive strengths and weaknesses of rice production and exports in the United States and other major exporting countries, including such factors as producer revenue and costs of production, industry structure, input prices and availability, processing technology, product innovation, exchange rates, pricing, and market regimes, as well as government policies and programs that directly or indirectly affect rice production and exporting in these countries;

4. A qualitative and, to the extent possible, quantitative assessment of the impact of government policies and programs of major producing and exporting countries on their rice production, exports, consumption, and domestic prices, as well as on rice prices globally; and

5. an overview of the impact on the U.S. rice industry of exports from the highlighted countries of rice to the United States and to traditional export markets of the United States such as, but not limited to, Mexico, Haiti, and West Africa.

The Committee asked that the report focus primarily on the period 2009-2013 and that the Commission deliver its report no later than 11 months following the receipt of this request. The Committee also stated that it intends to make the Commission's report public and asked that the report not include any confidential business information.

Public Hearing: The Commission will hold a public hearing in connection with this investigation at the U.S. International Trade Commission Building, 500 E Street SW., Washington, DC, beginning at 9:30 a.m. on Wednesday, September 10, 2014. Requests to appear at the public hearing should be filed with the Secretary not later than 5:15 p.m., August 26, 2014, in accordance with the requirements in the “Submissions” section below. All prehearing briefs and statements should be filed with the Secretary not later than 5:15 p.m., September 2, 2014; and all posthearing briefs and statements responding to matters raised at the hearing should be filed with the Secretary not later than 5:15 p.m., September 17, 2014. All hearing-related briefs and statements should be filed in accordance with the requirements for filing written submissions set out below. In the event that, as of the close of business on August 26, 2014, no witnesses are scheduled to appear at the hearing, the hearing will be canceled. Any person interested in attending the hearing as an observer or nonparticipant may call the Office of the Secretary (202-205-2000) after August 26, 2014, for information concerning whether the hearing will be held.

Written Submissions: In lieu of, or in addition to, participating in the hearing, interested parties are invited to file written submissions concerning this investigation. All written submissions should be addressed to the Secretary, and all such submissions (other than prehearing and posthearing briefs and statements) should be received not later than 5:15 p.m., December 9, 2014. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available for inspection by interested parties.

In the request letter, the Committee stated that it intends to make the Commission's report available to the public in its entirety, and asked that the Commission not include any confidential business information in the report it sends to the Committee. Any confidential business information received by the Commission in this investigation and used in preparing this report will not be published in a manner that would reveal the operations of the firm supplying the information.

By order of the Commission.
Issued: June 17, 2014.
Lisa R. Barton,
Secretary to the Commission.

[FR Doc. 2014-14455 Filed 6-19-14; 8:45 am]

BILLING CODE 7020-02-P